DEPARTMENT OF THE INTERIOR

Fish and Wildlife Service

[FWS-R1-ES-2020-N133; FXES11130100000-201-FF01E00000]

Endangered and Threatened Wildlife and Plants; Draft Recovery Plan for Four Subspecies of Mazama Pocket Gopher

AGENCY: Fish and Wildlife Service, Interior.

ACTION: Notice of availability; request for review and public comment.

SUMMARY: We, the U.S. Fish and Wildlife Service, announce the availability of the Draft Recovery Plan for Four Subspecies of Mazama Pocket Gopher. The four subspecies, listed as threatened under the Endangered Species Act, are endemic to Thurston and Pierce Counties, Washington. We request review and comment on this draft recovery plan from Federal, State, and local agencies; Native American Tribes; and the public.

DATES: To ensure consideration, comments on the draft recovery plan must be received on or before August 30, 2021. However, we will accept information about any species at any time.

ADDRESSES: Document availability: Obtain the recovery plan by any of the following methods.

• Internet: http://www.fws.gov/endangered/species/recovery-plans.html or http://www.fws.gov/pacific/ecoservices/endangered/recovery/plans.html.

• U.S. mail: Tom McDowell, U.S. Fish and Wildlife Service, Washington Fish and Wildlife Office, 510 Desmond Drive SE, Suite 102, Lacey, WA 98503; or

• Telephone: 360-753-9440.

Comment submission: You may submit written comments and materials by one of the following methods:

• U.S. mail: Tom McDowell, Washington Fish and Wildlife Office, at the above U.S. mail address.

• Fax: 360-753-9405.

• Email: WFWO_LR@fws.gov.

FOR FURTHER INFORMATION CONTACT: Brad Thompson, State Supervisor, U.S. Fish and Wildlife Service, Washington Fish and Wildlife Office, at the above U.S. mail address; telephone 360-753-4652. If you use a telecommunications device for the deaf, call the Federal Relay Service at 1-800-877-8339.

SUPPLEMENTARY INFORMATION: We, the U.S. Fish and Wildlife Service (Service), announce the availability of the Draft Recovery Plan for Four Subspecies of Mazama Pocket Gopher. The four subspecies, listed as threatened under the Endangered Species Act of 1973, as amended, are burrowing mammals endemic to Thurston and Pierce Counties, Washington. The draft recovery plan includes specific goals, objectives, and criteria that should be met to consider removing the species from the Federal List of Endangered and Threatened Wildlife. We request review and comment on this draft recovery plan from Federal, State, and local agencies; Native American Tribes; and the public.

Background

The Mazama pocket gopher is a fossorial (burrowing) mammal. In April 2014, the following four subspecies of Mazama pocket gopher, found in glacial outwash prairie habitats in the south Puget Sound region of western Washington State, were listed as threatened species pursuant to the Endangered Species Act of 1973, as amended (16 U.S.C. 1531 et seq.; Act) (79 FR 19760; April 9, 2014). The draft recovery plan covers these four subspecies.

Common name | Scientific name | Location
Roy Prairie pocket gopher | Thomomys mazama glacialis | Pierce County, Washington.
Olympia pocket gopher | Thomomys mazama pugetensis | Thurston County, Washington.
Tenino pocket gopher | Thomomys mazama tumuli | Thurston County, Washington.
Yelm pocket gopher | Thomomys mazama yelmensis | Thurston County, Washington.

Recovery Planning Process

Recovery of endangered and threatened animals and plants is a primary goal of our endangered species program. To help guide the recovery effort, we prepare recovery plans for most listed species. Recovery plans describe actions considered necessary for conservation of the species, establish criteria for downlisting or delisting, and estimate time and cost for implementing recovery measures.

Recovery Planning and Implementation

The Service has recently revised its approach to recovery planning, and is now using a new process termed Recovery Planning and Implementation (RPI) (see https://www.fws.gov/endangered/esa-library/pdf/RPI.pdf). The RPI approach is intended to reduce the time needed to develop and implement recovery plans, increase recovery plan relevancy over a longer timeframe, and add flexibility to recovery plans so they can be adjusted to new information or circumstances. Under RPI, a recovery plan includes the statutorily-required elements under section 4(f) of the Act (objective and measurable recovery criteria, site-specific management actions, and estimates of time and costs), along with a concise introduction and our strategy for how we plan to achieve species recovery. The RPI recovery plan is supported by two supplementary documents: A Species Status Assessment or Biological Report, which describes the best available scientific information related to the biological needs of the species and assessment of threats; and the Recovery Implementation Strategy, which details the particular near-term activities needed to implement the recovery actions identified in the recovery plan. Under this approach new information on species biology or details of recovery implementation may be incorporated by updating these supplementary documents without concurrent revision of the entire recovery plan, unless changes to statutorily required elements are necessary.

Recovery Plan Components

The Draft Recovery Plan for Four Subspecies of Mazama Pocket Gopher is supported by the Recovery Implementation Strategy, which is available at https://www.fws.gov/wafwo/articles.cfm?id=149489725.

The primary recovery strategy for the four Mazama pocket gopher subspecies is to conserve, restore, and properly manage the quantity, quality, and connectivity (or configuration) of their habitats to address habitat fragmentation, degradation, or loss, as well as to address other known threats, to ensure the long-term persistence and viability of each subspecies across its range. We may initiate an assessment of whether recovery has been achieved and delisting is warranted when the recovery criteria have been met, including establishment of protected Reserves managed over the long term for Mazama pocket gophers in each subspecies' range, with populations of at least 1,000 individuals and approximately 250 to 500 acres of medium- or high-quality habitat in each Reserve. Minimum numbers of Reserves required for each subspecies are as follows: At least three Reserves for the Roy Prairie pocket gopher; at least three Reserves for the Olympia pocket gopher; at least two Reserves for the Tenino pocket gopher; and at least seven Reserves for the Yelm pocket gopher. Locations of Reserves are described in detail in the draft recovery plan.

Request for Public Comments

Section 4(f) of the Act requires us to provide public notice and an opportunity for public review and comment during recovery plan development. It is also our policy to request peer review of recovery plans (59 FR 34270; July 1, 1994). In an appendix to the approved final recovery plan, we will summarize and respond to the issues raised during public comment and peer review. Substantive comments may or may not result in changes to the recovery plan. Comments regarding recovery plan implementation will be forwarded as appropriate to Federal or other entities so that they can be taken into account during the course of implementing recovery actions.

We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Robyn Thorson,
Regional Director, U.S. Fish and Wildlife Service.

[FR Doc. 2021-13872 Filed 6-28-21; 8:45 am]

BILLING CODE 4333-15-P